DEPARTMENT OF STATE

[Public Notice 5392]

U.S. National Commission for UNESCO Notice of Meeting

The annual conference of the U.S. National Commission for UNESCO will take place on Thursday, June 1, 2006 and Friday, June 2, 2006, at the Doubletree Hotel, Washington, DC (1515 Rhode Island Avenue, NW.). This will be the second annual conference of the Commission following its re-establishment in 2004; the theme of the meeting is the 60th Anniversary of the creation of the United Nations Educational, Scientific, and Cultural Organization.

On Thursday, June 1 from 9 a.m. to 12 p.m. and from 2:15 p.m. to 5:15 p.m. and on Friday, June 2 from 9 a.m. to 12 p.m., the Commission will hold a series of informational plenary sessions and subject-specific committee breakout sessions, which will be open to the public. These sessions will focus on UNESCO's budget and six-year Medium Term Strategy as well as various issues that relate to the established subcommittees within the Commission's committees of education, culture, natural sciences and engineering, social and human sciences, and communications and information. On Friday, June 2, 2006, the Commission will meet from 1:45 p.m. until 4 p.m. to discuss recommendations on these issues.

Members of the public who wish to attend any of these meetings should contact the U.S. National Commission for UNESCO no later than Wednesday, May 24th for further information about admission, as seating is limited. Written comments should also be submitted by Wednesday, May 24th to allow time for distribution to the Commission members prior to the meeting. Additionally, those who wish to make oral comments during the public comment section held during the concluding Friday session should request to be scheduled by Wednesday, May 24th. Each individual will be limited to five minutes, with the total oral comment period not exceeding thirty-minutes. The National Commission may be contacted via e-mail at DCUNESCO@state.gov, or via phone at (202) 663-0026. Its Web site can be accessed at: http://www.state.gov/p/io/unesco/.

Dated: May 8, 2006.
Alexander Zemek,
U.S. National Commission for UNESCO, Department of State.

[FR Doc. 06-4537 Filed 5-12-06; 8:45 am]

BILLING CODE 4710-19-M